DEPARTMENT OF AGRICULTURE

Forest Service

Sierra National Forest, Bass Lake Ranger District, California, Grey's Mountain Ecosystem Restoration Project

AGENCY: Forest Service, USDA.

ACTION: Notice of Intent To Prepare an Environmental Impact Statement.

SUMMARY: The Bass Lake Ranger District is proposing a series of ecological restoration treatments, north of the community of Bass Lake, California, south of Soquel Meadow, east of Nelder Grove Historical Area and west of Graham Mountain. Treatment areas have been initially identified to provide a “strategic” means to modify intensity and spread of wildland fires across the landscape and near communities. This is commonly known as the “SPLAT” (Strategically Placed Area Treatment) strategy. Additional treatments within these SPLATs have been identified where stands are densely stocked and thinning is needed to reduce inter-tree competition and improve tree vigor to increase stand resiliency to large scale mortality from insects and disease. In addition to the SPLATS, other areas will be treated for the specific purpose of creating defensible fuel profiles near key transportation corridors and within the defense zones of the Wildland Urban Interface (WUI). Restoration treatments are also planned for degraded aquatic features such as meadows, wildlife structures/habitat improvement, noxious weed eradication and monitoring, and tracks created by motorized vehicles and forest road improvements. Additional aspects of the project include monitoring for designated Off Highway Vehicles (OHV) trails to ensure consistency with forest service best management standards, cultural resource improvements and range management improvements.

DATES: Comments concerning the scope of this analysis should be received no later than 30 days after the publication of this notice in the Federal Register. The draft environmental impact statement (DEIS) is expected in December 2011 and the final environmental impact statement (FEIS) is expected in March 2012.

ADDRESSES: Send written comments to the U.S. Forest Service, Sierra National Forest, Bass Lake Ranger District, 57003 Road 225, North Fork, CA 93643, Attn: David Martin. Comments may also be sent via e-mail to comments-pacificsouthwest-sierra@fs.fed.us (use Rich Text format (.rtf) or Word format (.doc)) or via facsimile to (559) 877-3308. It is important that reviewers provide their comments at such times and in such a way that they are useful to the Agency's preparation of the EIS. Therefore, comments should be provided prior to the close of the comment period and should clearly articulate the reviewer's concerns.

Comments received in response to this solicitation, including names and addresses of those who comment, will be part of the public record for the proposed action. However comments submitted anonymously will be accepted and considered.

FOR FURTHER INFORMATION CONTACT: Burt Stalter, Interdisciplinary Team Leader, at Sierra National Forest, Bass Lake Ranger District, 57003 Road 225, North Fork, CA 93643. Individuals who use telecommunication devices for the death (TDD) may call the Federal Information Relay Services (FIRS) at 1-800-877-8339 between 8 a.m. and 8 p.m., Eastern Time, Monday through Friday.

SUPPLEMENTARY INFORMATION: Background Information: The Grey's Mountain Ecosystem Restoration Project (Madera County, California) lies within the Willow Creek and the Fresno River watershed, where during the period before significant Euro-American influence, natural fires occurred frequently and were of low intensity with return intervals ranging from every 5 to 10 years. During the past century, management activities (including harvesting operations, fire exclusion/suppression, etc.) and increased human habitation, have changed the composition of vegetation. Currently, vegetation within the Grey's Mountain Ecosystem Restoration Project has changed from one where frequent, low intensity fires occurred to one with increased susceptibility to infrequent moderate to high intensity wildland fire. Forest stand densities are above that which can be sustained, with inter-tree competition increasing and tree vigor beginning to decline. Pockets of insect and disease attack are beginning to show in the stands as well as the drought induced mortality. Non-native plant species and noxious weeds, that were absent in the area, now are growing in small pockets.

The Grey's Mountain Ecological Restoration Project lies within the elevational bands for the Southern Sierra Fisher Conservation Area. Public concern and management review surrounding the significance of potential impacts to the Pacific fisher, a candidate species and the California spotted owl, a sensitive species, during past projects, has led to the decision to document the environmental analysis with an environmental impact statement (EIS) for this project.

Purpose and Need for Action

Vegetation treatments are needed to reduce density of trees and shrubs and increase stand health and vigor. Stand densities within the lower and mid-canopy layers of conifer stands need to be reduced to a level which provides for increased tree growth and vigor resulting in increased stand resiliency enabling stands to better withstand fluctuations in temperature and precipitation, attacks from insects and diseases, and the effects of wildfires by creating sustainable stand densities.

Additionally there is a need to reduce the intensity and spread of wildfires across the landscape and near communities. Treatments would provide a buffer between developed areas and wildlands where fire suppression capabilities are enhanced by modified fire behavior inside the WUI zones as well as provide a safe and effective area for fire suppression activities to occur.

There is a need for fuel reduction (in the surface and ladder fuels) that protects human communities from moderate/high intensity wild fires as well as minimizes the spread of wildfires that might originate in urban areas into the forested lands.

Proposed Action

The Grey's Mountain Ecological Restoration Project proposes to:

• Treat surface and ladder fuels (live and dead) to interrupt wildland fire spread and fire intensity levels. This is proposed to be completed utilizing thinning of pre-commercial and commercial conifers, mastication and/or dozer piling and burning in order to improve the ability of firefighters to suppress and control wildland fires and provide a better measure of safety for the public and personnel.

• Conduct density management treatments by commercially thinning from below pine, mixed conifer and fir stands and, where needed, precommercial thinning the remainder. Precommercial thin young conifer plantations and conifer reproduction. This is being accomplished to improve the vigor of the stands.

• Masticate trees and brush/shrub patches to tie treatment areas together in strategic locations.

• Utilize prescribe fire where needed as a tool to reduce natural and activity generated fuels through pile burning, jackpot, under story and/or broadcast burning. Prescribed burning treatments will occur as the initial treatment in one area within the project boundary, to connect treatments together across steep broken terrain that cannot be treated with other methods.

• Prepare and plant conifers within specific sites of failed conifer plantations and promoting natural stand characteristics within established plantations by creating openings around black oaks and promoting understory diversity.

• Utilize prescribe fire and/or manual methods to treat infestations of noxious weeds, with the goal of eradication and preventing its spread into areas treated. Post treatment monitoring will be done to ensure any new populations are dealt with promptly.

• Improve and restore native plant communities that are important to local Native American tribes for traditional uses. Historically significant plants will be managed by prescribed fire and, if needed, by hand tools.

• Reduce fuel loading in selected cultural resource sites vulnerable to catastrophic wildfire to aid in their future protection and preservation.

• Improve and restore degraded aquatic features such as meadows by reducing encroaching conifers and stabilizing areas of accelerated erosion to mitigate sedimentation to streams and improve water quality and quantity for downstream beneficial use.

• Improve wildlife habitat by restoring key components such as large dbh snags, adequate quantities of coarse woody debris, and by promoting health and vigor of oaks and encouraging growth of larger dbh trees. These are essential habitat components in the Sierra Nevada that are used by a wide variety of vertebrates and invertebrates for shelter, hiding cover, denning, nesting, resting areas and food sources. Methods used to restore these habitat components may include precise scattered snag creation by girdling or topping trees or using prescribed fire to create pockets of contiguous snags. Plot sampling throughout the treatment units will gather information on current levels of coarse woody debris (CWD). Levels of CWD will be increased in those areas where they are shown to be in deficit for wildlife habitat use. Potential methods to achieve this desired level of CWD includes falling and leaving trees >16″dbh, and recruitment of CWD through prescribed burning activities that will create some snags which will eventually contribute to CWD levels. Growth and vigor of oaks will be promoted where needed by clearing overtopping conifers.

• Identify and monitor OHV trails for restoration or reclamation needs and use approved methods to complete these activities. Possible restoration activities could be maintenance and improvements to approved trails signage on non approved trails, and obliteration and reclamation of these trails.

• Identify forest roads that could be causing resource damage and use approved methods for construction and maintenance of these areas. The possible activities could be replacing plugged or non functioning culverts or grading of road surfaces to keep offsite soil movement to a minimum. Replacing damaged or missing road signs.

• Identify and improve resources for range management. Activities could include maintenance of stock drives, drift fence's and cattle guard's.

Grey's Mountain Ecological Restoration Project encompasses 9,600 acres. Of which the following acres would be analyzed for treatments; 2,770 acres of Tractor, 220 acres of prescribed burning, 318 acres of mastication, 100 acres of hand work, and 110 acres of meadow restoration.

Possible Alternatives

To comply with NEPA, the Forest Service will evaluate additional alternatives to the proposed action developed based on public comments. A no action alternative to provide a baseline for comparison to the action alternatives will be included within the EIS. Each alternative will be explored and evaluated, or rationale will be given for eliminating an alternative from detailed study.

Responsible Official

The Responsible Deciding Official is Scott G. Armentrout, Forest Supervisor, Sierra National Forest, 1600 Tollhouse Road, Clovis, CA 93612.

Nature of Decision To Be Made

The Forest Supervisor will decide whether to implement the proposed action, take an alternative action that meets the purpose and need or take no action.

Scoping Process

The notice of intent initiates the scoping process, which guides the development of the environmental impact statement. The project is included in the Sierra National Forest's quarterly scheduled of proposed actions (SOPA). Information on the proposed action will also be posted on the Sierra National Forests Web site, http://fs.fed.us/r5/sierra/projects, and will also be advertised in both the Fresno Bee and the Oakhurst Sierra Star. This notice of intent initiates the scoping process, which guides the development of the environmental impact statement.

Comments submitted during this scoping period should be in writing and should be specific to the proposed action. The comments should describe as clearly and completely as possible any issues the commenter has with the proposal. It is important reviewers provide their comments at such times in such a manner that they are useful to the agency's preparation on the environmental impact statement.

Dated: July 8, 2011.
Scott G. Armentrout,
Forest Supervisor, Sierra National Forest.

[FR Doc. 2011-17707 Filed 7-14-11; 8:45 am]

BILLING CODE 3410-11-M